DEPARTMENT OF THE INTERIOR

National Park Service

Glacier Bay National Park, Alaska; Environmental Impact Statement on Vessel Quotas and Operating Requirements for Glacier Bay National Park and Preserve

AGENCIES: National Park Service, Interior.

ACTION: Extension of the public scoping period.

SUMMARY: The National Park Service (NPS) announces that the public scoping period for the Environmental Impact Statement on Vessel Quotas and Operating Requirements for Glacier Bay National Park and Preserve, published in the Federal Register on February 22, 2002 (67 FR 8313), was extended through June 7, 2002. The original scoping period was through April 23, 2002.

DATES: Comments concerning the scope of this project were accepted through June 7, 2002.

FOR FURTHER INFORMATION CONTACT: Nancy Swanton, Park Planner, National Park Service, Alaska Support Office, 2525 Gambell Street, Anchorage, Alaska 99503. Telephone (907) 257-2651, Fax (907) 257-2517.

Dated: April 10, 2002.
Marcia Blaszak
Acting Regional Director, Alaska Region.

[FR Doc. 02-17805 Filed 7-15-02; 8:45 am]

BILLING CODE 4310-70-P